DEPARTMENT OF DEFENSE

Department of the Army; Corps of Engineers

33 CFR Part 334

Department of the Air Force, Wisconsin Air National Guard Danger Zone Under Restricted Air Space R-6903, Lake Michigan, Sheboygan County, WI

AGENCY: United States Army Corps of Engineers, Department of Defense.

ACTION: Proposed rule and request for comments.

SUMMARY: The Corps of Engineers is proposing an amendment to its regulations to designate an existing military exercise area as a Danger Zone. The military exercise area is located off the Wisconsin shoreline in Lake Michigan from Manitowoc to Port Washington, as shown on National Oceanographic and Atmospheric Administration (NOAA) Chart 14901 (1999). The Danger Zone will only be activated by the Wisconsin Air National Guard (WiANG) during military exercises. The Air Guard will advise fishermen and mariners in the vicinity when a military exercise is scheduled and thus ensure their safety by alerting them of temporary, potentially hazardous conditions which may exist as a result of the military exercises. There will be no change in the use of the existing military exercise area which is currently shown on aeronautical charts as restricted air space. The area, however, needs to also be marked on navigation charts as a Danger Zone to conform with the restricted air space designation to better insure security and safety for the public.

DATES: Written comments must be submitted on or before November 5, 2003.

ADDRESSES: U.S. Army Corps of Engineers, ATTN: CECW-OR, 441 G Street, NW., Washington, DC 20314-1000.

FOR FURTHER INFORMATION CONTACT: Mr. Frank Torbett, Headquarters Regulatory Branch, Washington, DC at (202) 761-4618, or Mr. Howard J. Ecklund, Corps of Engineers, St. Paul District, Regulatory Branch, at (262) 547-4171.

SUPPLEMENTARY INFORMATION: Pursuant to its authorities in Section 7 of the Rivers and Harbors Act of 1917 (40 Stat. 266; 33 U.S.C. 1) and Chapter XIX, of the Army Appropriations Act of 1919 (40 Stat. 892; 33 U.S.C. 3), the Corps proposes to amend the restricted area regulations in 33 CFR part 334 by adding § 334.145 as a Danger Zone in Lake Michigan offshore from Manitowoc and Sheboygan Counties in Wisconsin, as shown on NOAA Chart 14901 (1999). This is a revision of a similar proposal published in the Federal Register on March 11, 2002. This revision is being published because the earlier proposal contained incomplete information and did not adequately explain the reason for the regulation change. As a result, various interested parties expressed concerns regarding the change and its impact on boats using the area. The area to be designated as a Danger Zone already exists as restricted air space R-6903 which is shown on current aeronautical charts. This amendment of the regulation will allow WiANG to request that the U. S. Coast Guard issue a Notice to Mariners when exercises are planned and thus better inform fishermen and mariners of military activities in this area. WiANG intends to continue to schedule this area for use in a similar manner as it has been used during the past 20 years. Historical activity includes, but is not limited to, inert air-to-air and air-to-surface delivery, defensive countermeasures training, and sonar buoy drops.

Procedural Requirements

a. Review Under Executive Order 12866

This proposed rule is issued with respect to a military function of the Defense Department and the provisions of Executive Order 12866 do not apply.

b. Review Under the Regulatory Flexibility Act

These proposed rules have been reviewed under the Regulatory Flexibility Act (Public Law 96-354) which requires the preparation of a regulatory flexibility analysis for any regulation that will have a significant economic impact on a substantial number of small entities (i.e., small businesses and small governments). The Corps expects that the economic impact of the identification of this area as a Danger Zone would have practically no impact on the public, no anticipated navigational hazard or interference with existing waterway traffic and, accordingly, certifies that this proposal if adopted, will have no significant economic impact on small entities.

c. Review Under the National Environmental Policy Act

A preliminary draft environmental assessment has been prepared for this action. Due to the administrative nature of this action and because there is no intended change in the use of the area, the Corps expects that this regulation, if adopted, will not have a significant impact on the quality of the human environment and therefore preparation of an environmental impact statement will not be required. The environmental assessment will be finalized after the public notice period is closed and all comments have been received and considered. It may be reviewed at the District office listed at the end of FOR FURTHER INFORMATION CONTACT above.

d. Unfunded Mandates Act

This proposed rule does not impose an enforceable duty among the private sector and, therefore, it is not a Federal private sector mandate and it is not subject to the requirements of either Section 202 or Section 205 of the Unfunded Mandates Act. We have also found under Section 203 of the Act, that small Governments will not be significantly and uniquely affected by this rulemaking.

List of Subjects in 33 CFR Part 334

Danger zones, Marine safety, Navigation (water), Restricted areas, Waterways.

For the reasons set out in the preamble, the Corps proposes to amend 33 CFR part 334, as follows:

PART 334—DANGER ZONE AND RESTRICTED AREA REGULATIONS

1. The authority citation for 33 CFR 334 continues to read as follows:

Authority: 40 Stat. 266 (33 U.S.C. 1) and 40 Stat. 892 (33 U.S.C. 3).

2. Section 334.845 would be added to read as follows:

§ 334.845 Wisconsin Air National Guard Danger Zone, Volk Field Military Exercise Area, Lake Michigan offshore Manitowoc and Sheboygan Counties.

(a) The area. The waters within an area beginning at a point at latitude 43°19′00″ N., longitude 87°41′00″ W.; to latitude 44°05′30″ N, longitude 87°29′45″ W.; to latitude 44°02′00″ N., longitude 87°02′30″ W.; to latitude 43°15′30″ N., longitude 87°14′00″ W.; thence to the point of beginning, as shown on NOAA Chart 14901 (1999) and existing aeronautical charts.

(b) The regulation. During specific, infrequent periods when military exercises will be conducted, as promulgated in the local notice to mariners published by the United States Coast Guard (USCG), all vessels entering the Danger Zone are advised to proceed across the area by the most direct route and without unnecessary delay. No vessel or craft of any size shall lie-to or anchor in the Danger Zone, other than a vessel operated by or for the USCG, or any other authorized agency.

(c) Normal use. At all other times, nothing in this section shall prohibit any lawful uses of this area.

(d) Enforcement. The regulation in this section shall be enforced by the Commanding Officer, VOLK Field, WI, and/or persons or agencies as he/she may designate.

Dated: September 3, 2003.
Michael B. White,
Chief, Operations Division, Directorate of Civil Works.

[FR Doc. 03-25204 Filed 10-3-03; 8:45 am]

BILLING CODE 3710-92-P